DEPARTMENT OF THE INTERIOR

Fish and Wildlife Service

[FWS-R4-R-2009-N0041; 40136-1265-0000-S3]

St. Vincent National Wildlife Refuge, Franklin and Gulf Counties, FL

AGENCY: Fish and Wildlife Service, Interior.

ACTION: Notice of intent to prepare a comprehensive conservation plan and environmental assessment; request for comments.

SUMMARY: We, the U.S. Fish and Wildlife Service, intend to prepare a comprehensive conservation plan (CCP) and associated National Environmental Policy Act (NEPA) documents for St. Vincent National Wildlife Refuge (NWR). We provide this notice in compliance with our CCP policy to advise other Federal and State agencies, Tribes, and the public of our intentions, and to obtain suggestions and information on the scope of issues to consider in the planning process.

DATES: To ensure consideration, we must receive your written comments by May 8, 2009. Special mailings, newspaper articles, and other media announcements will be used to inform the public and State and local government agencies of the opportunities for input throughout the planning process. A public scoping meeting will be held early in the CCP development process. The date, time, and place for the meeting will be announced in the local media.

ADDRESSES: Send comments, questions, and requests for information to: Monica Harris, Natural Resource Planner, St. Vincent NWR, P.O. Box 447, Apalachicola, FL 32329.

FOR FURTHER INFORMATION CONTACT: Ms. Monica Harris, Natural Resource Planner; telephone: 910/378-6689; e-mail: monica_harris@fws.gov.

SUPPLEMENTARY INFORMATION:

Introduction

With this notice, we initiate our process for developing a CCP for St. Vincent NWR in Franklin and Gulf Counties, Florida. This notice complies with our CCP policy to (1) advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each refuge. The purpose for developing a CCP is to provide refuge managers with a 15-year strategy for achieving refuge purposes and contributing to the mission of the National Wildlife Refuge System, consistent with sound principles of fish and wildlife management, conservation, legal mandates, and our policies. In addition to outlining broad management direction for conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System was established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. At this time we encourage input in the form of issues, concerns, ideas, and suggestions for the future management of St. Vincent NWR.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

St. Vincent NWR, which encompasses 12,490 acres, was established in 1968 as a waterfowl sanctuary. The primary feature of the refuge is the 4-mile-wide, 9-mile-long, 12,358-acre barrier island known as St. Vincent Island. In addition, the refuge includes a 46-acre island known as Pig Island in St. Joseph Bay, as well as an 86-acre mainland tract of land known as 14-mile site, south of County Road 30A. Management activities focus on managing and conserving the natural barrier island and associated native plant and animal communities. St. Vincent NWR provides habitat for numerous fresh and marine water species and thousands of birds, including wading and water birds (e.g., herons, egrets, and wood storks), as well as shorebirds (e.g., snowy plovers, American oystercatchers, and red knots). Many neotropical migratory songbirds breed on the refuge and use it during migration. Since 1990, the refuge has supported the recovery of the endangered red wolf by providing St. Vincent Island as a propagation site. Other species, including deer, squirrel, raccoon, alligator, snake, and sea turtle, can be found on the refuge.

Public Availability and Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: March 12, 2009.
Cynthia K. Dohner,
Acting Regional Director.

[FR Doc. E9-7937 Filed 4-7-09; 8:45 am]

BILLING CODE 4310-55-P